DEPARTMENT OF HEALTH AND HUMAN SERVICES

Centers for Disease Control and Prevention

Statement of Organizations, Functions, and Delegations of Authority

Part C (Centers for Disease Control and Prevention) of the Statement of Organizations, Functions, and Delegations of Authority of the Department of Health and Human Services (45 FR 67772-76, dated October 14, 1980, and corrected at 45 FR 69296, October 20, 1980, as amended most recently at 66 FR 36790-36791, dated July 13, 2001) is amended to modify the mission statement for the Office of the Director, Division of Public Health Systems Development and Research, Public Health Practice Program Office.

Section C-B, Organization and Functions, is hereby amended as follows:

Delete the mission statement for the Office of the Director (CH51), Division of Public Health Systems Development and Research (CH5), Public Health Practice Program Office (CH), and insert the following:

(1) Directs and coordinates the activities of the Division toward their achievement and evaluates results: (2) Develops long-range plans, sets annual objectives, and monitors progress; (3) Provides leadership and management oversight; (4) Serves as a focal point for development State and local public health capacity, for providing core training to ensure competency of the State and local public health workforce and for assessing State and local health capacity to achieve Year 2010 health objectives; (5) Interacts with public, private, academic, and voluntary sectors of the public health community to foster consensus and adoption of health systems that ensure the capacity for effective response to the National health objectives; (6) Increases the collaboration and fosters the application of resources and capabilities of academic institutions and public health agencies to achieve priority public health goals; (7) Establishes information and knowledge management policies, data systems, and information resources required to support State, local, and Divisional needs; (8) Serves as an advisor to the Director, Public Health Practice Program Officer, on matters related to public health systems, health systems assessment, policy development and assurance, and health system capacity improvement; (9) Coordinates collaborative activities of the Division with other Centers, Institute, and Offices; other Federal agencies; States and local agencies; professional societies; and private health organizations.

Dated: July 13, 2001.
Jeffrey P. Koplan,
Director.

[FR Doc. 01-18211 Filed 7-20-01; 8:45 am]

BILLING CODE 4160-18-M